FEDERAL COMMUNICATIONS COMMISSION

47 CFR Part 15

[ET Docket No. 95-177; FCC 02-135]

Biomedical Telemetry Transmitters

AGENCY: Federal Communications Commission.

ACTION: Final rule; denial.

SUMMARY: This document dismisses a petition for reconsideration filed by the Cellular Phone Taskforce concerning the effects of radio frequency radiation on “electrosensitive” individuals, and denies a petition for partial reconsideration concerning separation distances filed by the National Association of Broadcasters.

FOR FURTHER INFORMATION CONTACT: Hugh Van Tuyl, Office of Engineering and Technology, (202) 418-7506.

SUPPLEMENTARY INFORMATION: This is a summary of the Commission's Memorandum Opinion and Order, ET Docket No. 95-177, FCC 02-135, adopted May 2, 2002, and released May 13, 2002. The full text of this document is available for inspection and copying during regular business hours in the FCC Reference Center (Room CY-A257), 445 12th Street, SW, Washington, DC 20554. The complete text of this document also may be purchased from the Commission's copy contractor, Qualex International, 445 12th Street, SW., Room, CY-B402, Washington, DC 20554. The full text may also be downloaded at: www.fcc.gov. Alternative formats are available to persons with disabilities by contacting Brian Millin at (202) 418-7426 or TTY (202) 418-7365.

Summary of the Memorandum Opinion and Order

1. In October 1997, the Commission adopted a Report and Order (R&O) that increased the maximum permitted signal strength for medical telemetry transmitters operating in the broadcast television bands under Part 15 of the rules. The R&O also permitted these devices to operate on TV channels 14-46 in addition to TV channels 7-13 where they already were permitted to operate. To prevent interference to TV broadcast signals, minimum required separation distances were established between medical telemetry transmitters and the Grade B contours of co-channel analog TV stations. No separation distances were proposed or established between medical telemetry transmitters and the noise limited service contours of digital TV stations, but medical telemetry transmitters must operate on a non-interference basis to digital TV and to all other authorized services.

2. Two parties filed petitions for reconsideration of the rules adopted in the R&O. The Cellular Phone Taskforce (CPT) claims that the transmission levels permitted in the rules are too high and are therefore discriminatory because they will adversely affect persons who are extremely sensitive to electromagnetic fields. The National Association of Broadcasters (NAB) claims that the rules do not provide adequate protection to analog TV broadcast signals from interference caused by medical telemetry transmitters. NAB states that we used a desired-to-undesired (D/U) signal ratio that was too low in calculating the minimum required separation distances between medical telemetry transmitters and the Grade B contours of co-channel TV stations. NAB's petition did not address the issue of protecting digital TV signals from interference by medical telemetry equipment.

3. Prior to the adoption of the Report and Order in this proceeding, the Commission addressed in another proceeding CPT's arguments that stringent standards for RF emissions should be established to protect persons who are adversely affected by exposure to low-level electromagnetic fields. More specifically, in 1996, CPT filed a petition for reconsideration in ET Docket 93-62, which adopted new guidelines and methods for evaluating the environmental effects of radio frequency (RF) radiation from FCC-regulated transmitters. CPT's petition in that proceeding argued that stricter RF emission limits were necessary to protect persons who are “electrosensitive.” The Commission denied CPT's petition on August 25, 1997, stating that the RF safety rules adopted in that proceeding were based on the recommendations of expert organizations and federal agencies with responsibilities for health and safety, and that it was not practicable for the Commission to independently evaluate studies of biological effects, especially concerning controversial issues such as whether some persons are “electrosensitive.” CPT appealed the Commission's decision in ET Docket 93-62 at the same time it petitioned for reconsideration of the Commission's decision in this proceeding. The Court affirmed the Commission's decision to rely on standards formulated by expert organizations and agencies. In denying a rehearing, the Court specifically concluded, in response to CPT's claims of discrimination against handicapped persons, that the American with Disabilities Act (42 U.S.C. 12101 et seq.) did not apply to the Commission's decision and that arguments made under the Rehabilitation Act (29 U.S.C. 701 et seq.) were without merit. Because the essence of CPT's arguments here have already been addressed by the Commission in ET Docket 93-62 and the Commission's decision in that proceeding has been affirmed on appeal, we are dismissing CPT's petition for reconsideration in this proceeding.

4. We find that the 45 dB D/U signal ratio we selected to determine the required separation distances between medical telemetry transmitters and TV grade B contours is appropriate. This ratio was originally adopted by the Commission in 1952 to protect TV stations from interference from co-channel TV stations at the Grade B contour. It is specified in Part 74 of the Commission rules to protect analog TV signals from co-channel interference from low power TV, TV translator or TV booster stations. This ratio provides greater protection than the 34 dB ratio specified in Part 73 to protect analog TV signals from interference from digital TV signals. We find that the D/U ratios recommended by National Association of Broadcasters are overly protective and thus affirm our decision to base the separation rules on a 45 dB D/U ratio.

5. While we find that the rules we adopted are adequate to prevent interference, we also note that recent Commission actions will serve to reduce the number of medical telemetry users in the TV bands. Subsequent to this proceeding, the Commission allocated three new frequency bands where medical telemetry can operate on a primary basis. In allocating these bands, our goal was not only to provide spectrum where medical telemetry can operate without interference, but also to encourage medical telemetry users to migrate out of the current bands. To accomplish this transition, the Commission will cease approving medical telemetry equipment that can operate in the TV bands starting October 16, 2002. While there is no cutoff on the marketing and use of medical telemetry equipment approved prior to that date, we expect that the use of medical telemetry equipment in the TV bands will gradually cease as equipment that operates in the newly allocated bands is deployed to replace older equipment.

6. Pursuant to the authority contained in sections 4(i), 301, 302, 303(e), 303(f), and 303(r) of the Communications Act of 1934, as amended, 47 U.S.C. 154(i), 301, 302, 303(e), 303(f), and 303(r), the Petition for Reconsideration filed by the Cellular Phone Taskforce is dismissed.

7. Pursuant to the authority contained in sections 4(i), 301, 302, 303(e), 303(f), and 303(r) of the Communications Act of 1934, as amended, 47 U.S.C. 154(i), 301, 302, 303(e), 303(f), and 303(r), the Petition for Partial Reconsideration filed by the National Association of Broadcasters is denied.

List of Subjects in 47 CFR Part 15

Communications equipment, Radio, Report and recordkeeping requirements.

Federal Communications Commission.
Marlene H. Dortch,
Secretary.

[FR Doc. 02-14173 Filed 6-5-02; 8:45 am]

BILLING CODE 6712-01-P